DEPARTMENT OF JUSTICE

Antitrust Division

Notice Pursuant to the National Cooperative Research and Production Act of 1993—National Conference of Standards Laboratories

Notice is hereby given that, on July 7, 2006, pursuant to Section 6(a) of the National Cooperative Research and Production Act of 1993, 15 U.S.C. 4301 et seq. (“the Act”), National Conference of Standards Laboratories (“NCSL”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: National Conference of Standards Laboratories, Boulder, CO. The nature and scope of NCSL's standards development activities are: To develop and maintain standards for the operation and design of calibration laboratories, requirements for the control and use of measuring and test equipment, and requirements or guides for metrological functions associated with calibration laboratories and/or measuring and test equipment. These standards may be new development projects or may be based upon current ISO/IEC standards or guides, other international standards, recommended practices developed by NCSL or other industry good practices.

Patricia A. Brink,
Deputy Director of Operations, Antitrust Division.

[FR Doc. 06-6776 Filed 8-8-06; 8:45 am]

BILLING CODE 4410-11-M